DEPARTMENT OF HOMELAND SECURITY

Coast Guard

46 CFR Chapter I

[Docket No. USCG-2016-0669]

Marine Safety Manual, Volume III, Parts B and C, Change-2

AGENCY: Coast Guard, DHS.

ACTION: Availability of updated Marine Safety Manual.

SUMMARY: The Coast Guard announces the availability of Change-2 to the Marine Safety Manual (MSM), Volume III, Marine Industry Personnel, and the corresponding Commandant Change Notice that highlights the changes made to that manual. MSM Volume III provides information and interpretations on international conventions and U.S. statutory and regulatory issues relating to marine industry personnel. This Commandant Change Notice discusses the substantive changes to Parts B and C of MSM Volume III. All changes are underlined in the final version and each changed page is annotated with CH-2 in the footer. The date of each change since 1999 is shown in parentheses at the end of the subsection/paragraph titles within the text of each Part as well as at the end of each NOTE. Part A will be reviewed and revised as part of a separate initiative.

DATES: Unless specifically stated otherwise, Change-2 to Marine Safety Manual, Volume III, Marine Industry Personnel, COMDTINST M16000.8B is in effect as of July 14, 2017.

ADDRESSES: To view the documents mentioned in this document, go to the Federal eRulemaking Portal at http://www.regulations.gov and use “USCG-2016-0669” as your search term.

FOR FURTHER INFORMATION CONTACT: For information about this document call or email Lieutenant Commander Corydon Heard, U.S. Coast Guard; telephone 409-978-2704, email Corydon.F.Heard@uscg.mil.

SUPPLEMENTARY INFORMATION: If you discover a discrepancy between the manning or endorsements specified by the Certificate of Inspection/Safe Manning Documentation (COI/SMD) and the provisions of the MSM, Volume III, bring it to the attention of the OCMI with a view toward aligning with the revised MSM III. Documents discussed in this document should be available in the online docket within three business days of this publication. There will be no hardcopy distribution of this change. This change has been incorporated into the electronic copy of the manual available on the INTERNET at http://www.dcms.uscg.mil/Our-Organization/Assistant-Commandant-for-C4IT-CG-6-/The-Office-of-Information-Management-CG-61/aboutCGDS/cim/smdpage2823/4/.

Background and Purpose

Volume III of the Marine Safety Manual (MSM) provides information and interpretations on international conventions and U.S. statutes and regulations relating to marine industry personnel. The last updates to Volume III of the MSM were released on July 30, 2014 (79 FR 45451, Aug. 5, 2014). The Coast Guard published a notice in the Federal Register announcing the availability of a draft Change-2 and requested public comments (See 81 FR 46042). This document announces updates portions of Part B and C.

Specifically, substantive changes include: (1) Updated guidance to align with the Howard Coble Coast Guard and Maritime Transportation Act of 2014; (2) manning scales for towing vessels certificated under Subchapter M from recently published Inspection of Towing Vessels final rule (81 FR 40003, June 20, 2016); and (3) various policy updates impacting vessel manning. Further, all manning scales throughout Part B Chapters 2, 4, 6 and 7 are presented in a new standard format. Additionally, a Suggested Safe Manning Proposal Template, Coast Guard Work Instruction, Master's Field Guide, and Verification Check-sheet have been added to the Annex. These are intended to aid Coast Guard personnel as well as owners/operators, masters and persons in charge of U.S. vessels, respectively.

We received 10 public comment responses to the July 15, 2016 Federal Register document. These comment responses contained a total of approximately 31 specific recommendations, suggestions and other comments. We have created a change matrix that provides a summary of each comment and the corresponding Coast Guard response, as well as Coast Guard changes. A copy of this change matrix is available for viewing in the public docket for this notice. For more detailed information, please consult the actual public comment letters in the docket. You may access the docket going to http://www.regulations.gov, using “USCG-2016-0669” as your search term, and following the instructions in the ADDRESSES section above.

Some commenters included a DOT mailing address in their comments. The Coast Guard no longer receives mail at the DOT Docket Management Facility. Each Coast Guard notice soliciting public comment includes instructions on how to comment on the online docket at www.regulations.gov, and what to do if commenters are unable to submit comments online.

The basic ideas and principles encompassed in the initial and supplemental drafts remain. Some commenters proposed revisions to the MSM or requested additional clarification. In response to these comments, the Coast Guard has made some additional revisions. The Coast Guard notes, however, that the MSM (and any revisions made to the MSM) reflect current law and regulation and are intended to provide guidance and information to marine industry personnel. For an in-depth discussion of the individual comments submitted, please visit the docket for this notice to view submitted comments and the change matrix.

It should be noted that Change-2 is not intended to preempt or take the place of separate policy initiatives regarding specific decisions on appeal or future regulations. Future changes to the MSM may be released if the Coast Guard promulgates new regulations or issues appeal decisions, which may affect the guidance and information contained within the MSM.

This document is issued under authority of 5 U.S.C. 552(a).

Dated: July 5, 2017.
Paul F. Thomas,
Rear Admiral, U.S. Coast Guard, Assistant Commandant for Prevention Policy.

[FR Doc. 2017-14738 Filed 7-13-17; 8:45 am]

BILLING CODE 9110-04-P